DEPARTMENT OF COMMERCE

International Trade Administration

[A-533-863; A-475-832; A-570-026; A-580-878; A-583-856]

Corrosion-Resistant Steel Products From India, Italy, the People's Republic of China, the Republic of Korea, and Taiwan: Final Results of Expedited Sunset Reviews of Antidumping Duty Orders

AGENCY: Enforcement and Compliance, International Trade Administration, Department of Commerce.

SUMMARY: As a result of these expedited sunset reviews, the Department of Commerce (Commerce) finds that revocation of the antidumping duty (AD) orders on corrosion-resistant steel products (CORE) from India, Italy, the People's Republic of China (China), the Republic of Korea (Korea), and Taiwan would likely lead to a continuation or recurrence of dumping at the levels identified in the “Final Results of Sunset Reviews” section of this notice.

DATES: Applicable October 6, 2021.

FOR FURTHER INFORMATION CONTACT: Jaron Moore or Brian Smith, AD/CVD Operations, Office VIII, Enforcement and Compliance, International Trade Administration, U.S. Department of Commerce, 1401 Constitution Avenue NW, Washington, DC 20230; telephone: (202) 482-3640 or (202) 482-1766, respectively.

SUPPLEMENTARY INFORMATION:

Background

On July 25, 2016, Commerce published the AD orders on CORE from India, Italy, China, Korea, and Taiwan in the Federal Register.¹ On June 1, 2021, Commerce published the initiation of the first sunset reviews of the Orders, pursuant to section 751(c) of the Tariff Act of 1930, as amended (the Act).² On June 14 and 16, 2021, Commerce received timely and complete notices of intent to participate in these sunset reviews from Nucor Corporation (Nucor), California Steel Industries (CSI), Cleveland-Cliffs Inc. (Cleveland-Cliffs), Steel Dynamics Inc. (SDI), and United States Steel Corporation (US Steel) (collectively, domestic interested parties),³ within the deadline specified in 19 CFR 351.218(d)(1)(i).⁴ The domestic interested parties claimed interested party status within the meaning of section 771(9)(C) of the Act as U.S. producers in the United States of the domestic like product.⁵

¹ See Certain Corrosion-Resistant Steel Products from India, Italy, the People's Republic of China, the Republic of Korea and Taiwan: Amended Final Affirmative Antidumping Determination for India and Taiwan, and Antidumping Duty Orders, 81 FR 48390 (July 25, 2016) (collectively, Orders); see also Certain Corrosion-Resistant Steel Products from India, Italy, the People's Republic of China, the Republic of Korea and Taiwan: Notice of Correction to the Antidumping Duty Orders, 81 FR 58475 (August 25, 2016).

² See Initiation of Five-Year (Sunset) Reviews, 86 FR 29239 (June 1, 2021).

³ See Domestic Interested Parties' Letters, “Five-Year (`Sunset') Review of Antidumping Duty Order on Corrosion-Resistant Steel Products from India: Notice of Intent to Participate in Sunset Review”; “Five-Year (`Sunset') Review of Antidumping Duty Order on Corrosion-Resistant Steel Products from Italy: Notice of Intent to Participate in Sunset Review”; “Five-Year (`Sunset') Review of Antidumping Duty Order on Corrosion-Resistant Steel Products from the People's Republic of China: Notice of Intent to Participate in Sunset Review”; “Five-Year (`Sunset') Review of Antidumping Duty Order on Corrosion-Resistant Steel Products from the Republic of Korea: Notice of Intent to Participate in Sunset Review”; and “Five-Year (`Sunset') Review of Antidumping Duty Order on Corrosion-Resistant Steel Products from Taiwan: Notice of Intent to Participate in Sunset Review,” each dated June 14, 2021 (Cleveland Cliffs' Letters); “Five-Year (`Sunset') Review of Antidumping and Countervailing Duty Orders on Corrosion-Resistant Steel Products from India: Notice of Intent to Participate”; “Five-Year (`Sunset') Review of Antidumping and Countervailing Duty Orders on Corrosion-Resistant Steel Products from Italy: Notice of Intent to Participate”; “Five-Year (`Sunset') Review of Antidumping and Countervailing Duty Orders on Corrosion-Resistant Steel Products from the People's Republic of China: Notice of Intent to Participate”; “Five-Year (`Sunset') Review of Antidumping and Countervailing Duty Orders on Corrosion-Resistant Steel Products from the Republic of Korea: Notice of Intent to Participate”; and “Five-Year (`Sunset') Review of Antidumping and Countervailing Duty Orders on Corrosion-Resistant Steel Products from Taiwan: Notice of Intent to Participate,” each dated June 16, 2021 (CSI's and SDI's Letters); “Five-Year (`Sunset') Review Of Antidumping Duty Order on Corrosion-Resistant Steel Products from India: Notice of Intent to Participate”; “Five-Year (`Sunset') Review of Antidumping Duty Order on Corrosion-Resistant Steel Products from Italy: Notice of Intent to Participate”; “Five-Year (`Sunset') Review of Antidumping Duty Order on Corrosion-Resistant Steel Products from the People's Republic of China: Notice of Intent to Participate”; “Five-Year (`Sunset') Review of Antidumping Duty Order on Corrosion-Resistant Steel Products from the Republic of Korea: Notice of Intent to Participate”; “Five-Year (`Sunset') Review of Antidumping Duty Order on Corrosion-Resistant Steel Products from Taiwan: Notice of Intent to Participate,” each dated June 16, 2021 (US Steel's Letters); and “Certain Corrosion-Resistant Products from India: Notice of Intent to Participate in Sunset Review”; “Certain Corrosion-Resistant Products from Italy: Notice of Intent to Participate in Sunset Review”; “Certain Corrosion-Resistant Products from the People's Republic of China: Notice of Intent to Participate in Sunset Review”; “Certain Corrosion-Resistant Products from the Republic of Korea: Notice of Intent to Participate in Sunset Review”; and “Certain Corrosion-Resistant Products from Taiwan: Notice of Intent to Participate in Sunset Review,” each dated June 16, 2021 (Nucor's Letters) (collectively, Notice of Intent to Participate Letters).

⁴ The domestic interested parties include Nucor; CSI; Cleveland-Cliffs (AK Steel Corporation and ArcelorMittal USA LLC were both part of the group of domestic producers that filed the petitions and participated in the original investigations. In 2020, Cleveland-Cliffs acquired AK Steel and the majority of ArcelorMittal USA's operations); SDI.; and US Steel.

⁵ See Notice of Intent to Participate Letters.

On July 1, the domestic interested parties filed timely and adequate substantive responses, within the deadline specified in 19 CFR 351.218(d)(3)(i).⁶ Commerce did not receive substantive responses from any respondent interested party with respect to any of the Orders covered by these sunset reviews. As a result, pursuant to section 751(c)(3)(B) of the Act and 19 CFR 351.218(e)(1)(ii)(C)(2), Commerce conducted expedited (120-day) sunset reviews of the Orders.

⁶ See Domestic Interested Parties' Letters, “First Five-Year (`Sunset') Review of Antidumping Order on Corrosion-Resistant Steel Products from India: Domestic Industry's Substantive Response to Notice of Initiation”; “First Five-Year (`Sunset') Review of Antidumping Order on Corrosion-Resistant Steel Products from Italy: Domestic Industry's Substantive Response to Notice of Initiation”; “First Five-Year (`Sunset') Review of Antidumping Order on Corrosion-Resistant Steel Products from the People's Republic of China: Domestic Industry's Substantive Response to Notice of Initiation”; “First Five-Year (`Sunset') Review of Antidumping Order on Corrosion-Resistant Steel Products from the Republic of Korea: Domestic Industry's Substantive Response to Notice of Initiation”; and “First Five-Year (`Sunset') Review of Antidumping Order on Corrosion-Resistant Steel Products from Taiwan: Domestic Industry's Substantive Response to Notice of Initiation,” each dated July 1, 2021.

Scope of the Orders

The merchandise covered by the Orders is CORE from India, Italy, China, Korea, and Taiwan. For a complete description of the scope of the Orders, see the Issues and Decision Memorandum.⁷

⁷ See Memorandum, “Issues and Decision Memorandum for the Final Results of the Expedited Sunset Reviews of the Antidumping Duty Orders on Corrosion-Resistant Steel Products from India, Italy, the People's Republic of China, the Republic of Korea, and Taiwan,” dated concurrently with this notice.

Analysis of Comments Received

A complete discussion of all issues raised in these sunset reviews is provided in the Issues and Decision Memorandum. A list of the topics discussed in the Issues and Decision Memorandum is attached as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://enforcement.trade.gov/frn.

Final Results of Sunset Reviews

Pursuant to sections 751(c)(1) and 752(c)(1) and (3) of the Act, Commerce determines that revocation of the Orders would be likely to lead to continuation or recurrence of dumping, and that the magnitude of the dumping margins likely to prevail would be weighted-average margins of up to:

Country | Weighted average dumping margin (percent)
India | 4.43
Italy | 92.12
China | 209.97
Korea | 8.75
Taiwan | 10.34

Notification Regarding Administrative Protective Orders

This notice also serves as the only reminder to parties subject to administrative protective order (APO) of their responsibility concerning the return or destruction of proprietary information disclosed under APO in accordance with 19 CFR 351.305. Timely notification of the return or destruction of APO materials, or conversion to judicial protective orders, is hereby requested. Failure to comply with the regulations and terms of an APO is a violation which is subject to sanction.

Notification to Interested Parties

We are issuing and publishing these final results and notice in accordance with sections 751(c), 752(c), and 777(i)(1) of the Act, and 19 CFR 351.218 and 19 CFR 351.221(c)(5)(ii).

Dated: September 28, 2021.
Christian Marsh,
Acting Assistant Secretary for Enforcement and Compliance.

Appendix

List of Topics Discussed in the Preliminary Decision Memorandum

I. Summary

II. Background

III. Scope of the Orders

IV. History of the Orders

V. Legal Framework

VI. Discussion of the Issues

1. Likelihood of Continuation or Recurrence of Dumping

2. Magnitude of the Dumping Margins Likely To Prevail

VII. Final Results of Sunset Reviews

VIII. Recommendation

[FR Doc. 2021-21821 Filed 10-5-21; 8:45 am]

BILLING CODE 3510-DS-P